DEPARTMENT OF HEALTH AND HUMAN SERVICES

National Institutes of Health

National Library of Medicine; Amended Notice of Meeting

Notice is hereby given of a change in the meeting of the Commission on Systemic Interoperability, July 12, 2005, 8 a.m. to July 12, 2005, 4 p.m., FDA at Irvine, 18701 Fairchild, Irvine, California 92612, which was published in the Federal Register on June 22, 2005, 70 FR 36195.

The meeting times have changed to 7 a.m. to 3 p.m. on July 12, 2005, and will be held at the same location. The meeting is open to the public.

Dated: June 29, 2005.
Anna Snouffer,
Deputy Director, Office of Federal Advisory Committee Policy.

[FR Doc. 05-13459 Filed 7-7-05; 8:45 am]

BILLING CODE 4140-01-M